DEPARTMENT OF AGRICULTURE

Forest Service

Information Collection; Financial Information Security Request Form

AGENCY: Forest Service, USDA.

ACTION: Notice; request for comment.

SUMMARY: In accordance with the Paperwork Reduction Act of 1995, the Forest Service is seeking comments from all interested individuals and organizations on the extension of a currently approved information collection, Financial Information Security Request Form.

DATES: Comments must be received in writing on or before June 28, 2022 to be assured of consideration. Comments received after that date will be considered to the extent practicable.

ADDRESSES: Comments concerning this notice should be addressed to USDA—Forest Service, Attention: Stephen Wills, Financial Policy, Sidney Yates Federal Building: 201 14th Street SW, Washington, DC 20250. Comments also may be submitted via email to: stephen.wills@usda.gov. The public may inspect comments received at the above address during normal business hours. Visitors are encouraged to call 703-605-4938 to facilitate entry to the building.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: Stephen Wills, Director of Financial Policy, 703-605-4938. Individuals who use telecommunications for the deaf (TDD) may call the Federal Information Relay Service (FIRS) at 1-800-877-8339, twenty-four hours a day, every day of the year, including holidays.

SUPPLEMENTARY INFORMATION: Title: Financial Information Security Request Form.

OMB Number: 0596-0204.

Expiration Date of Approval: February 28, 2023.

Type of Request: Extension without Revisions.

Abstract: The majority of the Forest Service's financial records are in databases stored at the National Finance Center (NFC). The Forest Service uses employees and contractors to maintain these financial records. The employees and contractors must have access to NFC to perform their duties.

The Forest Service uses an electronic form FS-6500-214, Financial Information Security Request Form, to apply to NFC for access for a specific employee or contractor. Due to program management decisions and budget constraints, it has been determined that contractors will need to complete and submit the form.

The contractor and the Forest Service systems provide the information necessary to complete form FS-6500-214. The contractor verifies completion of two courses within the last year: Privacy Act Basics and IT (Information Technology) Security. The contractor then enters their short name assigned by the Forest Service. Using the short name, the screen is populated with information that the contractor can change if incorrect. The information includes: Name, work email, work telephone number, and job title. The contractor checks the box for a non- federal employee and provides the expiration date of the contract. The contractor then selects the databases and actions needed. Based on the database(s) selected, the contractor provides additional information regarding the financial systems, work location, access scope, etc. Once the form is submitted to the client security officer, a one-page agreement automatically prints, which the contractor and client security officer sign. The agreement is a certification statement that acknowledges the contractor's recognition of the sensitive nature of the information and agrees to use the information only for authorized purposes. The information collected is shared with those managing or overseeing the financial systems used by the Forest Service, this includes auditors.

Estimate of Burden per Response: 10 minutes.

Estimated Annual Number of Respondents: 9,549.

Estimated Annual Number of Responses per Respondent: 3.

Estimated Total Annual Burden on Respondents: 4,774 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Robert Velasco,
Chief Financial Officer (CFO).

[FR Doc. 2022-09227 Filed 4-28-22; 8:45 am]

BILLING CODE 3411-15-P